ENVIRONMENTAL PROTECTION AGENCY

[FRL-6893-9]

Agency Information Collection Activities: Submission for OMB Review; Comment Request; Renewal and Revision of Information Collection Request for the Implementation of the Oil Pollution Act Facility Response Plan Requirements (40 CFR 112.20)

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Renewal and Revision of Information Collection Request for the Implementation of the Oil Pollution Act Facility Response Plan Requirements (40 CFR 112.20), OMB Control Number 2050-0135, EPA ICR No.1630.07. The ICR describes the nature of the information collection and its expected burden and cost; where appropriate, it includes the actual data collection instrument.

DATES: Comments must be submitted on or before December 1, 2000.

ADDRESSES: Send comments, referencing EPA ICR No. 1630.07 and OMB Control Number 2050-0135, to the following addresses: Sandy Farmer, U.S. Environmental Protection Agency, Collection Strategies Division (Mail Code 2822), 1200 Pennsylvania Avenue, NW, Washington, DC 20460; and to Office of Information and Regulatory Office of Management and Budget (OMB), Attention: Desk Officer for EPA, 725 17th Street, NW, Washington, DC 20503.

FOR FURTHER INFORMATION CONTACT: For a copy of the ICR contact Sandy Farmer at EPA by phone at (202) 260-2740, by E-mail at farmer.sandy@epamail.epa.gov, or download off the Internet at http://www.epa.gov/icr and refer to EPA ICR No. 1630.07. For technical questions about the ICR contact Barbara Davis on 703-603-8823.

SUPPLEMENTARY INFORMATION: Title: Renewal and Revision of Information Collection Request for the Implementation of the Oil Pollution Act Facility Response Plan Requirements (40 CFR 112.20) (OMB Control Number 2050-0135; EPA ICR #1630.07). This is a request for extension and revision of a currently approved collection.

Abstract: The authority for EPA's facility response plan requirements is derived from section 311 of the Clean Water Act, as amended by the Oil Pollution Act of 1990. EPA's regulation is codified at 40 CFR 112.20. Facility response plans enhance EPA's ability to protect navigable waters and sensitive environments from oil discharges, help ensure that human health and safety are protected in the vicinity of the facility, and reduce the cost of spills to the regulated community and society. EPA has recently finalized revisions to the rule to differentiate between animal fats and vegetable oils and other oils (65 FR 40776-40817, June 30, 2000). ICR number 1630.06 is associated with this rulemaking.

All facility response plan (FRP) reporting and recordkeeping activities are mandatory. Each FRP is submitted to EPA. The Agency, in turn, reviews and approves plans from facilities identified as having the potential to cause “significant and substantial harm” to the environment for oil discharges. Other low risk, regulated facilities that are not required to prepare facility response plans are required to document their determination that they do not meet the “substantial harm” criteria.

None of the information to be gathered for this collection is believed to be confidential. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 31, 2000 (65 FR 34690-34698). No comments were received.

Burden Statement: The annual public reporting and recordkeeping burden for this collection of information is estimated as follows: An average of 0.1 hours of recordkeeping for newly regulated facilities not required to prepare FRPs (i.e., facilities that certify that they do not meet the “substantial harm” criteria); 8.3 hours for recordkeeping and 239 hours for reporting for the newly regulated facilities required to prepare FRPs (i.e., first year costs for plan development); 1.2 hours for recordkeeping and 98 hours for reporting for facilities maintaining FRPs (i.e., subsequent costs for annual plan maintenance). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of oil discharges into waterways.

Estimated Number of Respondents: 10,310.

Frequency of Response: One-time certification, one time plan development. Annual plan review and revision as needed.

Estimated Total Annual Hour Burden: 583,130 hours.

Estimated Total Annualized Capital, O&M Cost Burden: $22,000.

Send comments on the Agency's need for this information, the accuracy of the provided burden estimates, and any suggested methods for minimizing respondent burden, including through the use of automated collection techniques to the addresses listed above. Please refer to EPA ICR No. 1630.07 and OMB Control No. 2050-0135 in any correspondence.

Dated: October 23, 2000.
Oscar Morales,
Director, Collection Strategies Division.

[FR Doc. 00-28013 Filed 10-31-00; 8:45 am]

BILLING CODE 6560-50-P